DEPARTMENT OF ENERGY

Federal Energy Regulatory Commission

Combined Notice of Filings

Take notice that the Commission has received the following Natural Gas Pipeline Rate and Refund Report filings:

Filings Instituting Proceedings

Docket Numbers: PR14-22-000.

Applicants: Bridgeline Holdings, L.P.

Description: Tariff filing per 284.123(b)(2) +: Petition for Rate Approval to be effective 2/14/2014; TOFC: 1310.

Filed Date: 2/14/14.

Accession Number: 20140214-5023.

Comments Due: 5 p.m. ET 3/7/14.

284.123(g) Protests Due: 5 p.m. ET 4/15/14.

Docket Numbers: RP14-484-000.

Applicants: TC Offshore LLC.

Description: M21K United Energy Neg Rate Agmts to be effective 2/14/2014.

Filed Date: 2/18/14.

Accession Number: 20140218-5196.

Comments Due: 5 p.m. ET 3/3/14.

Docket Numbers: RP14-485-000.

Applicants: Gulf South Pipeline Company, LP.

Description: PAL Neg Rate Agmts Filing (42018, 42019, 42020, 42021, 42022, 42024) to be effective 2/19/2014.

Filed Date: 2/19/14.

Accession Number: 20140219-5036.

Comments Due: 5 p.m. ET 3/3/14.

Docket Numbers: RP14-486-000.

Applicants: Texas Eastern Transmission, LP.

Description: Description of Rates for Rate Schedules FT-1 and IT-1 to be effective 4/1/2014.

Filed Date: 2/19/14.

Accession Number: 20140219-5061.

Comments Due: 5 p.m. ET 3/3/14.

Docket Numbers: RP14-487-000.

Applicants: Northwest Pipeline LLC.

Description: Plymouth LNG Rate Schedules Actual Tariff Sheets Filing to be effective 4/1/2014.

Filed Date: 2/19/14.

Accession Number: 20140219-5139.

Comments Due: 5 p.m. ET 3/3/14.

Docket Numbers: RP14-488-000.

Applicants: Midwestern Gas Transmission Company.

Description: Negotiated Rate PAL Agreement—NJR Energy Services to be effective 2/20/2014.

Filed Date: 2/19/14.

Accession Number: 20140219-5164.

Comments Due: 5 p.m. ET 3/3/14.

Docket Numbers: RP14-489-000.

Applicants: Guardian Pipeline, L.L.C.

Description: PAL Negotiated Rate Agreement—Chevron U.S.A., Inc. to be effective 2/19/2014.

Filed Date: 2/19/14.

Accession Number: 20140219-5172.

Comments Due: 5 p.m. ET 3/3/14.

Docket Numbers: RP14-490-000.

Applicants: Iroquois Gas Transmission System, L.P.

Description: 02/19/14 Negotiated Rates—Tenaska Gas Storage, LLC (HUB) 1175-89 to be effective 2/20/2014.

Filed Date: 2/19/14.

Accession Number: 20140219-5191.

Comments Due: 5 p.m. ET 3/3/14.

Docket Numbers: RP14-491-000.

Applicants: Iroquois Gas Transmission System, L.P.

Description: 02/19/14 Negotiated Rates—Trafigura AG (HUB) 7445-89 to be effective 2/20/2014.

Filed Date: 2/19/14.

Accession Number: 20140219-5192.

Comments Due: 5 p.m. ET 3/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated February 20, 2014.
Nathaniel J. Davis, Sr.,
Deputy Secretary.

[FR Doc. 2014-04516 Filed 2-28-14; 8:45 am]

BILLING CODE 6717-01-P